FEDERAL RETIREMENT THRIFT INVESTMENT BOARD

Sunshine Act; Notice of Meeting

TIME AND DATE: Parts open to the public begin at 12:30 (Eastern Time) April 28, 2014.

PLACE: 10th Floor Board Meeting Room, 77 K Street NE., Washington, DC 20002.

STATUS: Parts will be open to the public and parts closed to the public.

MATTERS TO BE CONSIDERED:

Parts Closed to the Public

1. Security

Parts Open to the Public

1. Approval of the minutes of the March 20, 2014 Board Member Meeting.

2. Monthly Reports.

a. Monthly Participant Activity Report

b. Monthly Investment Policy Review

c. Legislative Report

3. Audit Status Summary

4. Fiduciary Oversight Program Summary (Department of Labor)

5. Annual Financial Audit (CliftonLarsonAllen)

6. Quarterly Vendor Financials Report

7. Budget Review

CONTACT PERSON FOR MORE INFORMATION: Kimberly Weaver, Director, Office of External Affairs, (202) 942-1640.

Dated: April 16, 2014.
Laurissa Stokes,
Assistant General Counsel, Federal Retirement Thrift Investment Board.

[FR Doc. 2014-09056 Filed 4-17-14; 11:15 am]

BILLING CODE 6760-01-P